NATIONAL SCIENCE FOUNDATION

Agency Information Collection Activities: Proposed Collection; Comment Request

AGENCY: National Science Foundation.

ACTION: Notice.

SUMMARY: The National Science Foundation (NSF) is announcing plans to request clearance of this collection. In accordance with the requirement of section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by January 14, 2002 to be assured of consideration. Comments received after that date would be considered to the extent practicable.

ADDRESSES: Written comments regarding the information collection and requests of copies of the proposed information collection request should be addressed to Suzanne Plimpton, Reports Clearance Officer, National Science Foundation, 4201 Wilson Blvd., Rm. 295, Arlington, VA 22230, or by e-mail to spplimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: Survey of Colleges, Universities Providing Graduate Degrees and Specializations in Evaluation, and Providers of Professional Development Offerings.

OMB Control No.: 3145-NEW.

Expiration Date of Aprpoval: Not applicable.

Type of Request: Intent to seek approval to carry out a new information collection.

1. Abstract

This document has been prepared to support the clearance of data collection instruments to be used in the Surveys of Colleges and Universities Providing Graduate Degrees and Specializations in Evaluation, and Providers of Evaluation Professional Development Offerings. A major problem that NSF faces is the lace of qualified evaluators to serve as resources to NSF-funded projects. Therefore, the Evaluation Program has set as part of its mission the building of capacity in the field of evaluation. NSF's efforts will serve both to guarantee that there will be adequate numbers of trained evaluators to meet NSF's needs and to aid in creating a solid knowledge base for this relatively new professional field. Fundamental to both of these purposes is the collection of data on current capacity in the evaluation field to conduct training. This includes both formal education that leads to the granting of degrees, and informal education that fosters the acquisition of specific knowledge and skills through short courses, workshops, or Internet offerings. The approach encompasses two surveys. One is of university and college-based formal evaluation training programs leading to a major or minor course of graduate degree studies; the other is of professional training activities in evaluation that are regularly provided and may result in continuing education certificates.

2. Expected Respondents

The expected respondents are twofold. Those responding to the college and university degree programs will be those institutions that offer formal degree or specialization programs in the field of evaluation. Those receiving the second type of survey will be institutions, companies and organizations that provide regular, short-term, intensive training programs, such as institutes and short courses for both current and novice evaluators.

3. Burden on the Public

The total elements for these two collections are 32 burden hours for a maximum of 120 participants annually, assuming an 80-100% response rate. The average annual reporting burden is under 20 minutes per respondent. The burden on the public is negligible, as the survey is limited to colleges, universities and other entities that provide degrees, areas of specialization, and professional development in the field of evaluation.

Dated: November 7, 2001.
Suzanne H. Plimpton,
NSF Reports Clearance Officer.

[FR Doc. 01-28484 Filed 11-13-01; 8:45 am]

BILLING CODE 7555-01-M